DEPARTMENT OF AGRICULTURE

Agricultural Research Service

Notice of Intent To Renew Information Collection

AGENCY: Agricultural Research Service, USDA.

ACTION: Notice and request for comments.

SUMMARY: The notice announced Agricultural Research Service intent to seek comments on renewing the National Arboretum's information collection that expires on December 31, 2011. The notice was published in the Federal Register on August 26, 2011.

FOR FURTHER INFORMATION CONTACT: Deborah Cicala, 202-245-4553.

Correction

In the Federal Register of August 26, 2011, in FR Doc. 2011-21847, on pages 53397-53398 in the supplementary information section, correct to read as follows:

OMB Number: 0518-0024.

Yvette Anderson,
Federal Register Liaison Officer for Agriculture Research Service.

[FR Doc. 2011-22658 Filed 9-2-11; 8:45 am]

BILLING CODE 3410-03-P